SECURITIES AND EXCHANGE COMMISSION

Sunshine Act Meetings

TIME AND DATE: Notice is hereby given, pursuant to the provisions of the Government in the Sunshine Act, Public Law 94-409, that the U.S. Securities and Exchange Commission will host the 39th annual Government-Business Forum on Small Business Capital Formation virtually on Thursday, June 18, 2020 beginning at 12:00 p.m. Eastern Time.

PLACE: The Forum will be a completely virtual event conducted via livestreaming and video conferencing. Members of the public may register and participate via video conferencing or they may watch portions of the event via webcast on the Commission's website at http://www.sec.gov.

STATUS: The meeting will begin at 12:00 p.m. and will be open to the public via webcast. This Sunshine Act notice is being issued because a majority of the Commission may virtually attend the Forum.

MATTERS TO BE CONSIDERED: The Forum will highlight success stories and challenges faced by small businesses and their investors, from startups to small cap, across the country and solicit feedback from the public on opportunities to improve capital formation.

CONTACT PERSON FOR MORE INFORMATION: For further information and to ascertain what, if any, matters have been added, deleted or postponed; please contact Vanessa A. Countryman from the Office of the Secretary at (202) 551-5400.

Dated: June 9, 2020.
Vanessa A. Countryman,
Secretary.

[FR Doc. 2020-12773 Filed 6-9-20; 4:15 pm]

BILLING CODE 8011-01-P